ENVIRONMENTAL PROTECTION AGENCY

[EPA-HQ-OAR-2003-0033; FRL 9295-01-OMS]

Information Collection Request Submitted to OMB for Review and Approval; Comment Request; EPA's ENERGY STAR® Product Labeling (Renewal)

AGENCY: Environmental Protection Agency (EPA).

ACTION: Notice.

SUMMARY: The Environmental Protection Agency (EPA) has submitted an information collection request (ICR), EPA's ENERGY STAR Product Labeling (EPA ICR Number 2078.08, OMB Control Number 2060-0528) to the Office of Management and Budget (OMB) for review and approval in accordance with the Paperwork Reduction Act. This is a proposed extension of the ICR, which is currently approved through January 31, 2022. Public comments were previously requested via the Federal Register on May 26, 2021 during a 60-day comment period. This notice allows for an additional 30 days for public comments. A fuller description of the ICR is given below, including its estimated burden and cost to the public. An agency may not conduct or sponsor and a person is not required to respond to a collection of information unless it displays a currently valid OMB control number.

DATES: Additional comments may be submitted on or before December 22, 2021.

ADDRESSES: Submit your comments to EPA, referencing Docket ID No. EPA-HQ-OAR-2003-0033, to (1) EPA online using www.regulations.gov (our preferred method), a-and-r-Docket@epa.gov, or by mail to: EPA Docket Center, Environmental Protection Agency, Mail Code 28221T, 1200 Pennsylvania Ave. NW, Washington, DC 20460, and (2) OMB via email to oira_submission@omb.eop.gov. Address comments to OMB Desk Officer for EPA. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: James Kwon, Climate Protection Partnerships Division, Office of Air and Radiation, Mailcode 6202A, Environmental Protection Agency, 1200 Pennsylvania Ave. NW, Washington, DC 20460; telephone number: 202-564-8538; fax number: 202-343-2200; email address: kwon.james@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: ENERGY STAR is a voluntary program developed in collaboration with industry to create a self-sustaining market for energy efficient products. The center piece of the program is the ENERGY STAR label, a registered certification label that helps consumers identify products that save energy, save money, and help protect the environment without sacrificing quality or performance.

EPA partners with retailers, energy efficiency program sponsors (EEPS), and product brand owners who wish to use the ENERGY STAR label to differentiate products as more energy efficient. Retailers, EEPS, and product brand owners sign and submit a Partnership Application (PA) with EPA to become a partner, indicating that they voluntarily agree to fulfill the relevant program requirements referenced in the Partnership Agreement Form and Participation Form.

Prior to labeling a product as ENERGY STAR, partners have eligible products tested in an EPA-recognized laboratory and certified by an EPA-recognized third-party certification body (CB). To minimize the burden on partners, EPA maintains an automated data exchange with CBs. The CBs share information with EPA on products they review from EPA-recognized laboratories during the certification process. The XML-based data exchange allows the CBs to automatically transmit information on certified products to EPA from their database via web services. This automated system eliminates the need for paper submissions.

The certification process also includes requirements for CBs to report to EPA products that were reviewed, but not eligible for certification, as well as to conduct post-market verification testing of a sampling of ENERGY STAR certified products. CBs complete a minimum amount of verification testing and share information with EPA on products verified twice a year. CBs report to EPA any post-market test data indicating a product may no longer meet the program requirements. While most product-related information is provided by CBs, partners are asked to submit to EPA annual unit shipment data for their ENERGY STAR certified products.

Finally, partners that wish to receive recognition for their efforts in ENERGY STAR may submit an application for the Partner of the Year Award. Partners that have ENERGY STAR certified central air conditioners, air-source heat pumps, furnaces, geothermal heat pumps, and windows that meet the ENERGY STAR Most Efficient criteria may submit an application to gain ENERGY STAR Most Efficient recognition.

Form Numbers: 5900-252, 5900-251, 5900-33, 5900-253, 5900-168, 5900-206, 5900-207, 5900-28, 5900-208, 5900-210, 5900-228, 5900-234, 5900-229, 5900-235, 5900-47, 5900-349, 5900-350, 5900-351, 5900-348, 5900-35, 5900-37, 5900-38, 5900-39, 5900-41, 5900-42, 5900-43, 5900-44, 5900-48, 5900-49, 5900-50, 5900-51, 5900-54, 5900-55, 5900-56, 5900-57, 5900-58, 5900-230, 5900-224, 5900-227, 5900-166, 5900-165, 5900-164, 5900-226, 5900-163, 5900-34, 5900-216, 5900-217, 5900-218, 5900-388, 5900-254, 5900-255, 5900-439, 5900-440, 5900-415, 5900-416, 5900-438, 5900-417, 5900-483.

Respondents/affected entities: Partners in ENERGY STAR.

Respondent's obligation to respond: Voluntary.

Estimated number of respondents: 2,732.

Frequency of response: Initially/one-time, on occasion, semi-annually, annually.

Total estimated burden: 40,391 hours (per year). Burden is defined at 5 CFR 1320.03(b)

Total estimated cost: $2,546,557 (per year), includes $0 annualized capital or operation & maintenance costs.

Changes in the estimates: There is no change of in the total estimated respondent burden compared with the ICR currently approved by OMB.

Courtney Kerwin,
Director, Regulatory Support Division.

[FR Doc. 2021-25425 Filed 11-19-21; 8:45 am]

BILLING CODE 6560-50-P